DEPARTMENT OF LABOR

Bureau of Labor Statistics

Technical Advisory Committee; Notice of Meeting and Agenda

The Bureau of Labor Statistics Technical Advisory Committee will meet on Friday, May 19, 2023. This meeting will be held virtually from 10 a.m. to 4 p.m. EST.

The Committee presents advice and makes recommendations to the Bureau of Labor Statistics (BLS) on technical aspects of data collection and the formulation of economic measures and makes recommendations on areas of research. The BLS presents issues and then draws on the expertise of Committee members representing specialized fields within the academic disciplines of economics, statistics, data science, and survey design.

The schedule and agenda for the meeting are as follows:

10 a.m. Acting Commissioner's Welcome and Review of Agency Developments

10:30 a.m. Imputation Methods for Asset and Liabilities Data in the Consumer Expenditure Interview Survey

12 p.m. Data Collection During and After the COVID-19 Pandemic

1:45 p.m. Progress on Standardizing the Task Data in ORS

3:15 p.m. New JOLTS Measures Using Existing Data

4 p.m. Approximate Conclusion

The meeting is open to the public. Any questions concerning the meeting should be directed to Sarah Dale, Bureau of Labor Statistics Technical Advisory Committee, at BLSTAC@bls.gov. Individuals planning to attend the meeting should register at https://blstac.eventbrite.com. Individuals who require special accommodations should contact Ms. Dale at least two days prior to the meeting date.

Signed at Washington, DC, this 20th day of April 2023.
Eric Molina,
Acting Chief, Division of Management Systems.

[FR Doc. 2023-08806 Filed 4-25-23; 8:45 am]

BILLING CODE 4510-24-P